NUCLEAR REGULATORY COMMISSION

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from July 23, 2004, through August 5, 2004. The last biweekly notice was published on August 3, 2004 (69 FR 46582).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) Involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination. Within 60 days after the date of publication of this notice, the licensee may file a request for a hearing with respect to issuance of the amendment to the subject facility operating license and any person whose interest may be affected by this proceeding and who wishes to participate as a party in the proceeding must file a written request for a hearing and a petition for leave to intervene.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland 20852, Attention: Rulemaking and Adjudications Staff; (3) e-mail addressed to the Office of the Secretary, U.S. Nuclear Regulatory Commission, HEARINGDOCKET@NRC.GOV; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to (301) 415-3725 or by e-mail to OGCMailCenter@nrc.gov. A copy of the request for hearing and petition for leave to intervene should also be sent to the attorney for the licensee.

Nontimely requests and/or petitions and contentions will not be entertained absent a determination by the Commission or the presiding officer of the Atomic Safety and Licensing Board that the petition, request and/or the contentions should be granted based on a balancing of the factors specified in 10 CFR 2.309(a)(1)(i)-(viii).

For further details with respect to this action, see the application for amendment which is available for public inspection at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the NRC PDR Reference staff at 1-800-397-4209, (301) 415-4737 or by e-mail to pdr@nrc.gov.

Entergy Operations Inc., Docket No. 50-382, Waterford Steam Electric Station, Unit 3, St. Charles Parish, Louisiana

Date of amendment request: July 15, 2004.

Description of amendment request: The licensee proposes to implement an Alternate Source Term (AST) as permitted by section 50.67 of title 10 of the Code of Federal Regulations (10 CFR) for calculating accident offsite dose and doses to control room personnel.

Basis for proposed no significant hazards consideration determination: As required by 10 CFR 50.91(a), the licensee has provided its analysis of the issue of no significant hazards consideration, which is presented below:

1. Does the proposed change involve a significant increase in the probability or consequences of an accident previously evaluated?

Response: No.

The use of an alternative source term is recognized in the NRC [Nuclear Regulatory Commission] regulation 10 CFR 50.67; guidance for its implementation is provided in Regulatory Guide 1.183. The AST involves quantities, isotopic composition, chemical and physical characteristics, and release timing of radioactive material for use as inputs to accident dose analyses. As such, the AST cannot affect the probability of occurrence of a previously evaluated accident. No facility equipment, procedure, or process changes are required in conjunction with implementing the AST that could increase the likelihood of a previously analyzed accident. The proposed changes in the source term and the methodology for the dose consequence analyses generally follow the guidance of Regulatory Guide 1.183. As a result, there is no increase in the likelihood of existing event initiators.

Regarding consequences, the results of accident dose analyses using the AST are compared to TEDE [total effective dose equivalent] acceptance criteria that account for the sum of deep dose equivalent (for external exposure) and committed effective dose equivalent (for internal exposure). Dose results were previously compared to separate limits on whole body, thyroid, and skin doses as appropriate for the particular accident analyzed. The results of the revised dose consequences analyses demonstrate that the regulatory acceptance criteria are met for each analyzed event. Implementing the AST, however, involves no facility equipment, procedure, or process changes that could affect the radioactive material actually released during an event. Consequently, no conditions have been created that could significantly increase the consequences of any of the events being evaluated.

Therefore, the proposed change does not involve a significant increase in the probability or consequences of any of the events being evaluated.

2. Does the proposed change create the possibility of a new or different kind of accident from any accident previously evaluated?

Response: No.

The AST involves quantities, isotopic composition, chemical and physical characteristics, and release timing of radioactive material for use as inputs to accident dose analyses. As such, the AST cannot create the possibility of a new or different kind of accident. No facility equipment, procedure, or process changes have been made in conjunction with implementing the AST that could initiate or substantially alter the progression of an accident.

Therefore, the proposed change does not create the possibility of a new or different kind of accident from any previously evaluated.

3. Does the proposed change involve a significant reduction in a margin of safety?

Response: No.

Implementing the AST is relevant only to calculated accident dose consequences. The AST involves quantities, isotopic composition, chemical and physical characteristics, and release timing of radioactive material for use as inputs to accident dose analyses. The results of the revised dose consequences analyses demonstrate that the regulatory acceptance criteria are met for each analyzed event. No facility equipment, procedure, or process changes are required in conjunction with implementing the AST that could increase the exposure of control room or offsite individuals to radioactive material. The AST does not affect the transient behavior of non-radiological parameters (e.g., RCS [reactor coolant system] pressure, containment pressure) that are pertinent to margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: N. S. Reynolds, Esquire, Winston & Strawn 1400 L Street NW., Washington, DC 20005-3502.

NRC Section Chief: Robert A. Gramm.

Nuclear Management Company, LLC, Docket Nos. 50-266 and 50-301, Point Beach Nuclear Plant, Units 1 and 2, Town of Two Creeks, Manitowoc County, Wisconsin

Date of amendment request: April 8, 2004.

Description of amendment request: The proposed amendments would revise the Point Beach Nuclear Plant (PBNP) Technical Specification (TS) Surveillance Requirement (SR) 3.8.4.6 and SR 3.8.4.7, DC Sources-Operating, to change the values of battery charger currents, replace the specified battery charger voltage values with the phrase “minimum established float voltage,” add a new allowance for the method of verifying battery charger capacity, and remove a restriction on the conduct of a modified performance discharge test.

Basis for proposed no significant hazards consideration determination: As required by title 10 of the Code of Federal Regulations (10 CFR) section, 50.91(a), the licensee has provided its analysis of the issue of no significant hazards consideration which is presented below:

1. Operation of the Point Beach Nuclear Plant in accordance with the proposed amendments does not result in a significant increase in the probability or consequences of any accident previously evaluated.

The DC electrical power system provides normal and emergency DC electrical power for the standby emergency power sources, emergency auxiliaries, and control and switching during all Modes of operation. SR 3.8.4.6 verifies the design capacity of the battery chargers. SR 3.8.4.7 demonstrates the design requirements (battery duty cycle) of the DC electrical power system. The proposed amendment corrects a discrepancy between the TS Bases and FSAR [Final Safety Analysis Report] and better aligns the PBNP TS with the standard TS, which will enhance plant safety. Other proposed changes are bounded by different TS requirements or existing analyses contained in the FSAR, meet the intent of the existing tests, and do not result in relaxation of the underlying requirements.

The proposed change does not involve any hardware changes, nor does it affect the probability of any event initiators. There will be no change to normal plant operating parameters, engineered safety feature actuation setpoints, accident mitigation capabilities, or accident analysis assumptions or inputs.

Therefore, the probability or consequences of any accident previously evaluated will not be significantly increased as a result of the proposed change.

2. Operation of the Point Beach Nuclear Plant in accordance with the proposed amendments does not result in a new or different kind of accident from any accident previously evaluated.

No new accident scenarios, transient precursors, failure mechanisms, or limiting single failures are introduced as a result of the proposed change. The revised surveillance requirements will continue to assure equipment reliability such that plant safety is maintained or will be enhanced.

Equipment important to safety will continue to operate as designed. The changes do not result in any event previously deemed incredible being made credible. The changes do not result in adverse conditions or result in any increase in the challenges to safety systems. Therefore, operation of the Point Beach Nuclear Plant in accordance with the proposed amendment will not create the possibility of a new or different type of accident from any accident previously evaluated.

3. Operation of the Point Beach Nuclear Plant in accordance with the proposed amendments does not result in a significant reduction in a margin of safety.

The DC electrical power system provides normal and emergency DC electrical power for the standby emergency power sources, emergency auxiliaries, and control and switching during all Modes of operation. SR 3.8.4.6 verifies the design capacity of the battery chargers. SR 3.8.4.7 demonstrates the design requirements (battery duty cycle) of the DC electrical power system.

The proposed change to these SRs continues to assure that design requirements of the DC electrical power system continue to be met. There will be no change to the departure from nucleate boiling ratio (DNBR) correlation limit, the design DNBR limits, or the safety analysis DNBR limits.

There are no new or significant changes to the initial conditions contributing to accident severity or consequences. The proposed amendment will not otherwise affect the plant protective boundaries, will not cause a release of fission products to the public, nor will it degrade the performance of any other structures, systems or components (SSCs) important to safety. Therefore, the requested change will not result in a significant reduction in the margin of safety.

The NRC staff has reviewed the licensee's analysis and, based on this review, it appears that the three standards of 10 CFR 50.92(c) are satisfied. Therefore, the NRC staff proposes to determine that the amendment request involves no significant hazards consideration.

Attorney for licensee: Jonathan Rogoff, Esquire, Vice President, Counsel & Secretary, Nuclear Management Company, LLC, 700 First Street, Hudson, WI 54016.

NRC Section Chief: L. Raghavan.

Virginia Electric and Power Company, Docket Nos. 50-280 and 50-281, Surry Power Station, Unit Nos. 1 and 2, Surry County, Virginia

Date of amendment request: June 23, 2004.

Description of amendment request: The proposed amendments would revise the Technical Specifications (TS) requirements for verifying the operability of the remaining operable emergency diesel generator (EDG) when either unit's dedicated EDG or the shared EDG is inoperable.

Basis for proposed no significant hazards consideration determination: As required by 10 CFR 50.91(a), the licensee has provided its analysis of the issue of no significant hazards consideration, which is presented below:

Dominion has reviewed the requirements of 10 CFR 50.92 as they relate to the proposed change to the Surry Power Station, Units 1 and 2 Technical Specifications and has determined that a significant hazards consideration does not exist. The basis for this determination is provided as follows:

1. Does the proposed license amendment involve a significant increase in the probability or consequences of an accident previously evaluated?

The proposed change does not impact the condition or performance of any plant structure, system or component. The proposed change clarifies the testing requirement for the operable EDG(s) to limit testing to only the intended purpose of the requirement, which is to confirm a common cause failure mechanism does not exist in the opposite train's EDG(s). The proposed change does not affect the initiators of analyzed events nor the assumed mitigation of accident or transient events. Common cause failure testing of the remaining operable EDG(s) will still occur unless the reason for the EDG inoperability is demonstrably not due to a common cause failure mechanism. Furthermore, elimination of unnecessary testing of the operable EDG(s) will reduce component wear and thus promote EDG reliability and consequentially safety equipment availability. As a result, the proposed change to the Surry Technical Specifications does not involve any increase in the probability or the consequences of any accident or malfunction of equipment important to safety previously evaluated since neither accident probabilities nor consequences are being affected by this proposed change.

2. Does the proposed license amendment create the possibility of a new or different kind of accident from any accident previously evaluated?

The proposed change does not involve a physical alteration of the plant or a change in the methods used to respond to plant transients. No new or different equipment is being installed and no installed equipment is being removed or operated in a different manner. There is no alteration to the parameters within which the plant is normally operated or in the setpoints which initiate protective or mitigative actions. The EDGs will continue to perform their required safety functions. Furthermore, common cause failure testing will continue to occur if the EDG failure mechanism cannot be eliminated as a common cause possibility. Consequently, no new failure modes are introduced by the proposed change. Therefore, the proposed change to the Surry Technical Specifications does not create the possibility of a new or different kind of accident or malfunction of equipment important to safety from any previously evaluated.

3. Does the proposed amendment involve a significant reduction in a margin of safety?

The proposed TS change does not impact station operation or any plant structure, system or component that is relied upon for accident mitigation. Margin of safety is established through the design of the plant structures, systems and components, the parameters within which the plant is operated, and the establishment of the setpoints for the actuation of equipment relied upon to respond to an event. Since station operations and EDG surveillance requirements are not affected by the proposed change, the EDGs will continue to be available to perform their required safety functions. Furthermore, the change does not impact the condition or performance of structures, systems or components relied upon for accident mitigation or any safety analysis assumptions. Therefore, the proposed change to the Surry Technical Specifications does not involve any reduction in a margin of safety.

The NRC staff has reviewed the licensee's analysis and, based on this review, it appears that the three standards of 10 CFR 50.92(c) are satisfied. Therefore, the NRC staff proposes to determine that the amendment request involves no significant hazards consideration.

Attorney for licensee: Ms. Lillian M. Cuoco, Esq., Senior Counsel, Dominion Resources Services, Inc., Millstone Power Station, Building 475, 5th Floor, Rope Ferry Road, Rt. 156, Waterford, Connecticut 06385.

NRC Section Chief: Stephanie M. Coffin, Acting.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Entergy Nuclear Operations, Inc., Docket No. 50-333, James A. FitzPatrick Nuclear Power Plant, Oswego County, New York

Date of amendment request: July 28, 2003, as supplemented on May 20, 2004.

Description of amendment request: The amendment would revise Technical Specification Section 5.5.6, “Primary Containment Leakage Rate Testing Program,” to allow a one-time extension of the interval between the Type A, integrated leakage rate tests, from 10 years to no more than 15 years.

Date of publication of individual notice in Federal Register: July 27, 2004 (69 FR 44696).

Expiration date of individual notice: September 27, 2004.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for a Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the applications for amendment, (2) the amendment, and (3) the Commission's related letter, Safety Evaluation and/or Environmental Assessment as indicated. All of these items are available for public inspection at the Commission's Public Document Room, located at One White Flint North, Public File Area 01F21, 11555 Rockville Pike (first floor), Rockville, Maryland. Publicly available records will be accessible from the Agencywide Documents Access and Management Systems (ADAMS) Public Electronic Reading Room on the internet at the NRC Web site, http://www.nrc.gov/reading-rm/adams.html. If you do not have access to ADAMS or if there are problems in accessing the documents located in ADAMS, contact the NRC Public Document Room (PDR) Reference staff at 1 (800) 397-4209, (301) 415-4737 or by e-mail to pdr@nrc.gov.

AmerGen Energy Company, LLC, et al., Docket No. 50-219, Oyster Creek Nuclear Generating Station, Ocean County, New Jersey

Date of application for amendment: April 21, 2003, as supplemented on September 11, 2003, March 31, 2004, and April 16, 2004.

Brief description of amendment: The amendment revised the Technical Specifications, Sections 3.7 and 4.7, “Auxiliary Electrical Power,” and added a new Section 6.8.5, “Station Battery Monitoring and Maintenance Program,” to make them generally consistent with guidance set forth in NUREG-1433, “Standard Technical Specifications, General Electric Plants, BWR/4,” Revision 2, and with the industry guidance identified as Technical Specifications Task Force traveler 360, Revision 1.

Date of Issuance: July 30, 2004.

Effective date: July 30, 2004 and shall be implemented within 60 days of issuance.

Amendment No.: 245.

Facility Operating License No. DPR-16: Amendment revised the Technical Specifications.

Date of initial notice in Federal Register:

The September 11, 2003, March 31, 2004, and April 16, 2004, letters provided clarifying information within the scope of the original application and did not change the staff's initial proposed no significant hazards consideration determination. The Commission's related evaluation of this amendment is contained in a Safety Evaluation dated July 30, 2004.

No significant hazards consideration comments received: No.

Energy Northwest, Docket No. 50-397, Columbia Generating Station, Benton County, Washington

Date of application for amendment: April 19, 2004.

Brief description of amendment: The proposed change revises Technical Specification 3.7.3, “Control Room Emergency Filtration (CREF) System,” to provide specific conditions, required actions, and completion times that address a degraded control room envelope pressure boundary. The associated Bases were also revised.

Date of issuance: July 26, 2004.

Effective date: July 26, 2004, and shall be implemented within 30 days from the date of issuance.

Amendment No.: 188.

Facility Operating License No. NPF-21: The amendment revised the Technical Specifications.

Date of initial notice in Federal Register: May 25, 2004 (69 FR 29764).

The Commission's related evaluation of the amendment is contained in a Safety Evaluation dated July 26, 2004.

No significant hazards consideration comments received: No.

Entergy Operations, Inc., Docket No. 50-382, Waterford Steam Electric Station, Unit 3, St. Charles Parish, Louisiana

Date of amendment request: May 7, 2004, as supplemented by letters dated July 8 and 16, 2004.

Brief description of amendment: The amendment clarifies the actions of Technical Specification (TS) 3/4.4.5.1, Reactor Coolant System (RCS) Leakage; revises the surveillance requirements (SRs) of TS 3/4.4.5.2, RCS Operational Leakage; and deletes duplication in TS 3/4.3.3.1, Radiation Monitoring Instrumentation. Also, the amendment deletes the containment atmosphere gaseous radioactivity monitoring system from TS 3/4.4.5.1. The amendment is based on NUREG-1432, “Standard Technical Specifications Combustion Engineering Plants,” Revision 2, dated April 30, 2001.

Date of issuance: July 30, 2004.

Effective date: As of the date of issuance and shall be implemented 60 days from the date of issuance.

Amendment No.: 197.

Facility Operating License No. NPF-38: The amendment revised the Technical Specifications.

Date of initial notice in Federal Register: May 25, 2004 (69 FR 29765).

The July 8 and 16, 2004, supplemental letters provided additional information that clarified the application, did not expand the scope of the application as originally noticed, and did not change the staff's original proposed no significant hazards consideration determination. The Commission's related evaluation of the amendment is contained in a Safety Evaluation dated July 30, 2004.

No significant hazards consideration comments received: No.

Exelon Generation Company, LLC, Docket Nos. 50-237 and 50-249, Dresden Nuclear Power Station, Units 2 and 3, Grundy County, Illinois

Date of application for amendments: October 10, 2002, supplemented by letters dated October 10, and November 21, 2003, and January 13, July 8, and July 23, 2004.

Brief description of amendments: The amendments revise the Dresden, Units 2 and 3, technical specifications (TS) to increase the required number of operable main steam safety valves from eight to nine and add surveillance requirements for the ninth valve.

Date of issuance: July 30, 2004.

Effective date: As of the date of issuance and shall be implemented within 30 days.

Amendment Nos.: 208/200.

Facility Operating License Nos. DPR-19 and DPR-25: The amendments revised the Technical Specifications.

Date of initial notice in Federal Register: Published in the Federal Register on December 10, 2002 (67 FR 75875).

The Commission's related evaluation of the amendments is contained in a Safety Evaluation dated July 30, 2004.

No significant hazards consideration comments received: No.

Florida Power and Light Company, Docket Nos. 50-250 and 50-251, Turkey Point Plant, Units 3 and 4, Miami-Dade County, Florida

Date of application for amendments: March 3, 2004.

Brief description of amendments: The amendments revised Technical Specification (TS) Surveillance Requirement 4.0.5 by updating the American Society of Mechanical Engineers (ASME) Boiler and Pressure Vessel Code references as the source of inservice testing requirements for ASME Code Class 1, 2, and 3 pumps and valves. The amendments replace references to Section XI of the Code with references to the ASME Code for Operation and Maintenance of Nuclear Power Plants (ASME OM Code), and provides consistent use of terms between the TS and the ASME OM Code by adding a biennial surveillance interval.

Date of issuance: July 22, 2004.

Effective date: As of the date of issuance and shall be implemented by February 21, 2005 for Unit 3, and by April 14, 2005 for Unit 4.

Amendment Nos: 225 and 220.

Renewed Facility Operating License Nos. DPR-31 and DPR-41: Amendments revised the Technical Specifications.

Date of initial notice in Federal Register: March 30, 2004 (69 FR 16620).

The Commission's related evaluation of the amendments is contained in a Safety Evaluation dated July 22, 2004.

No significant hazards consideration comments received: No.

Nuclear Management Company, LLC, Docket No. 50-255, Palisades Plant, Van Buren County, Michigan

Date of application for amendment: September 18, 2003.

Brief description of amendment: The amendment revises Technical Specification (TS) Section 3.4.1, by relocating the primary coolant system pressure, cold-leg temperature, and flow departure from nucleate boiling limits to the core operating limits report. The amendment also revises TS section 5.6.5 to reflect the changes to TS section 3.4.1.

Date of issuance: August 2, 2004.

Effective date: As of the date of issuance and shall be implemented within 90 days.

Amendment No.: 217.

Facility Operating License No. DPR-20. Amendment revised the Technical Specifications.

Date of initial notice in Federal Register: October 14, 2003 (68 FR 59218).

The Commission's related evaluation of the amendment is contained in a Safety Evaluation dated August 2, 2004.

No significant hazards consideration comments received: No.

Omaha Public Power District, Docket No. 50-285, Fort Calhoun Station, Unit No. 1, Washington County, Nebraska

Date of amendment request: December 1, 2003, and its supplement dated February 9, 2004.

Brief description of amendment: The amendment revises the following technical specifications (TS): (1) Item 14 of Table 3-3, “Minimum Frequences for Checks, Calibrations and Testing of Miscellaneous Instrumentation and Controls,” regarding testing of the nuclear detector well cooling annulus exit air temperature detectors, (2) Item 10a.2 of Table 3-5, “Minimum Frequencies for Equipment Tests,” correcting a typographical error in the title, (3) TS 3.17(iii), “Steam Generator Tubes,” (4) TS 5.5, “Review and Audit,” (5) TS 5.6, “Reportable Event Action,” (6) TSs 5.7.1.b, 5.7.1.c, and 5.7.1.d, “Safety Limit Violation,” (7) TS 5.9.1.a, “Startup Report,” and (8) TS 5.9.4.c, “Fire Protection Deficiency Report.” These changes consist primarily of relocating material not required in the TSs to other licensee-controlled documents and correcting a typographical error.

Date of issuance: July 23, 2004.

Effective date: July 23, 2004, and shall be implemented within 120 days of issuance.

Amendment No.: 228.

Renewed Facility Operating License No. DPR-40: The amendment revised the Technical Specifications.

Date of initial notice in Federal Register: March 2, 2004 (69 FR 9863).

The February 9, 2004, supplemental letter provided additional information that clarified the application, did not expand the scope of the application as originally noticed, and did not change the staff's original no significant hazards consideration determination.

The Commission's related evaluation of the amendment is contained in a safety evaluation dated July 23, 2004.

No significant hazards consideration comments received: No.

PSEG Nuclear LLC, Docket No. 50-354, Hope Creek Generating Station, Salem County, New Jersey

Date of application for amendment: December 23, 2002, as supplemented August 14, 2003.

Brief description of amendment: This amendment revises the Hope Creek licensing basis, as described in the Updated Final Safety Analysis Report, to replace the current plant-specific reactor pressure vessel material surveillance program with the Boiling Water Reactor Vessel and Internals Project Integrated Surveillance Program as the basis for demonstrating compliance with the requirements of Appendix H to Title 10 of the Code of Federal Regulations part 50, “Reactor Vessel Material Surveillance Program Requirements.”

Date of issuance: July 23, 2004.

Effective date: As of the date of issuance, to be implemented within 30 days.

Amendment No.: 151.

Facility Operating License No. NPF-57: This amendment revised the facility's License.

Date of initial notice in Federal Register: April 29, 2003 (68 FR 22752). The August 14, 2003, letter provided clarifying information that did not change the initial proposed no significant hazards consideration determination or expand the application beyond the scope of the original Federal Register notice.

The Commission's related evaluation of the amendment is contained in a Safety Evaluation dated July 23, 2004.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the NRC Public Document Room (PDR) Reference staff at 1 (800) 397-4209, (301) 415-4737 or by e-mail to pdr@nrc.gov.

The Commission is also offering an opportunity for a hearing with respect to the issuance of the amendment. Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1-(800)-397-4209, (301) 415-4737, or by e-mail to pdr@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within on of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) e-mail addressed to the Office of the Secretary, U.S. Nuclear Regulatory Commission, HEARINGDOCKET@NRC.GOV; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to 301-415-3725 or by e-mail to OGCMailCenter@nrc.gov. A copy of the request for hearing and petition for leave to intervene should also be sent to the attorney for the licensee.

Nontimely requests and/or petitions and contentions will not be entertained absent a determination by the Commission or the presiding officer or the Atomic Safety and Licensing Board that the petition, request and/or the contentions should be granted based on a balancing of the factors specified in 10 CFR 2.309(a)(1)(i)-(viii).

Pacific Gas and Electric Company, Docket No. 50-323, Diablo Canyon Nuclear Power Plant, Unit No. 2, San Luis Obispo County, California

Date of application for amendment: July 30, 2004, and its supplement dated July 30, 2004.

Brief description of amendment: The amendment authorizes a one-time change to the completion time of Required Action A.1 of Technical Specification 3.6.6, “Containment Spray and Cooling Systems,” to increase the completion time for containment spray pump 2-2 from 72 hours to 14 days.

Date of issuance: July 30, 2004.

Effective date: July 30, 2004.

Amendment Nos.: 173.

Facility Operating License No. DPR-82: The amendment revised the Technical Specifications.

Public comments requested as to proposed no significant hazards consideration (NSHC): No. The Commission's related evaluation of the amendment, finding of emergency circumstances, State consultation, and final NSHC determination are contained in a Safety Evaluation dated July 30, 2004.

Attorney for licensee: Richard F. Locke, Esq., Pacific Gas and Electric Company, P.O. Box 7442, San Francisco, California 94120.

NRC Section Chief: Stephen Dembek.

Virginia Electric and Power Company, Docket No. 50-338, North Anna Power Station, Unit 1, Louisa County, Virginia

Date of amendment request: July 23, 2004.

Description of amendment request: This amendment allows a one-time 7-day completion time to repair a weld leak that was discovered on the low-head safety injection (LHSI) suction pump piping. This change is needed to prevent an unnecessary plant transient and unscheduled shutdown of North Anna Unit 1.

Date of issuance: July 23, 2004.

Effective date: July 23, 2004, and is effective until the ‘A’ train of the Unit 1 LHSI system is returned to operable status or until July 28, 2004, at 1723 hours, whichever occurs first.

Amendment No.: 236.

Renewed Facility Operating License No. NPF-4: Amendment revises the Technical Specifications.

Public comments requested as to proposed no significant hazards consideration (NSHC): No. The Commission's related evaluation of the amendment, finding of emergency circumstances, state consultation, and final NSHC determination are contained in a Safety Evaluation dated July 23, 2004.

Attorney for licensee: Ms. Lillian M. Cuoco, Esq., Senior Counsel, Dominion Resources Services, Inc., Millstone Power Station, Building 475, 5th Floor, Rope Ferry Road, Rt. 156, Waterford, Connecticut 06385.

NRC Section Chief: Stephanie M. Coffin, Acting.

Dated at Rockville, Maryland, this 9th day of August 2004.
For the Nuclear Regulatory Commission.
James E. Lyons,
Deputy Director, Division of Licensing Project Management Office of Nuclear Reactor Regulation.

[FR Doc. 04-18512 Filed 8-18-04; 8:45 am]

BILLING CODE 7590-01-P